DEPARTMENT OF ENERGY

Federal Energy Regulatory Commission

[Docket No. RP02-13-001]

Portland Natural Gas Transmission System; Notice of Compliance Filing

February 13, 2002.

Take notice that on November 19, 2001, Portland Natural Gas Transmission System (Portland) submits an informational filing to comply with the Commission's Order Accepting and Suspending Tariff Sheet Subject to Refund and Conditions and Establishing a Hearing (October 31 suspension order).¹ The October 31 suspension order stated that Portland does not provide work paper support for its derivation of the seasonal FT rate of $89.1936 per Dth and, therefore, the Commission directed Portland to file such rate derivative support for the seasonal long-term firm rate.

¹ 97 FERC ¶ 61,131 (2001).

Portland states that copies of this filing are being served on all jurisdictional customers, applicable state commissions, and interested parties that have requested service.

Any person desiring to protest said filing should file a protest with the Federal Energy Regulatory Commission, 888 First Street, NE, Washington, DC 20426, in accordance with section 385.211 of the Commission's Rules and Regulations. All such protests must be filed on or before February 20, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-4040 Filed 2-19-02; 8:45 am]

BILLING CODE 6717-01-P